DEPARTMENT OF HEALTH AND HUMAN SERVICES

National Institutes of Health

Statement of Organization, Functions, and Delegations of Authority

Part N, National Institutes of Health (NIH), of the Statement of Organization, Functions, and Delegations of Authority for the Department of Health and Human Services (40 FR 22859, May 27, 1975, as amended most recently at 77 FR 1941, January 12, 2012, and redesignated from Part HN as Part N at 60 FR 56605, November 9, 1995), is amended as set forth below to reflect a functional statement amendment for the Eunice Kennedy Shriver National Institute of Child Health and Human Development (NICHD).

Section N-T, Organization and Functions, under the heading Eunice Kennedy Shriver National Institute of Child Health and Human Development (NICHD) (NT, formerly HNT), is revised as follows:

(1) Provides leadership and formulates research goals and long-term plans to accomplish the Institute's mission of child health; maternal health; problems of human development, with special reference to intellectual and developmental disabilities; family structure and the dynamics of human population; the reproductive process; and medical rehabilitation; (2) conducts, fosters, and supports biomedical and behavioral research through research grants, research contracts, and research performed in its own laboratories; (3) supports training in fundamental sciences and clinical disciplines through individual and institutional research training awards; (4) promotes the application of research findings to clinical practice; (5) cooperates in government-wide efforts to improve health and provides consultation to Federal agencies and non-Federal groups in the development of programs to improve health; (6) coordinates and integrates research efforts with service-oriented health agencies; and (7) disseminates information related to research findings to practitioners and the general public for improving health.

Delegations of Authority Statement: All delegations and redelegations of authority to officers and employees of NIH that were in effect immediately prior to the effective date of this reorganization and are consistent with this reorganization shall continue in effect, pending further redelegation.

Dated: September 30, 2013.
Francis S. Collins,
Director.

[FR Doc. 2013-25432 Filed 10-28-13; 8:45 am]

BILLING CODE 4140-01-P